SMALL BUSINESS ADMINISTRATION

[Disaster Declaration #20858 and #20859; SEMINOLE TRIBE of FLORIDA Disaster Number FL-20018]

Presidential Declaration Amendment of a Major Disaster for Public Assistance Only for the Seminole Tribe of Florida

AGENCY: U.S. Small Business Administration.

ACTION: Amendment 1.

SUMMARY: This is an amendment of the Presidential declaration of a major disaster for Public Assistance Only for the Seminole Tribe of Florida (FEMA-4844-DR), dated November 5, 2024.

Incident: Hurricane Milton.

DATES: Issued on November 20, 2024.

Incident Period: October 5, 2024, through November 2, 2024.

Physical Loan Application Deadline Date: January 6, 2025.

Economic Injury (EIDL) Loan Application Deadline Date: August 5, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the Seminole Tribe of Florida, dated November 5, 2024, is hereby amended to update the incident period for this disaster as beginning October 5, 2024, and continuing through November 2, 2024.

All other information in the original declaration remains unchanged.

(Catalog of Federal Domestic Assistance Number 59008)

Alejandro Contreras,
Acting Deputy Associate Administrator, Office of Disaster Recovery & Resilience.

[FR Doc. 2024-27690 Filed 11-25-24; 8:45 am]

BILLING CODE 8026-09-P